DEPARTMENT OF ENERGY

Federal Energy Regulatory Commission

[Docket No. RP01-491-000]

Stingray Pipeline Company, L.L.C.; Notice of Proposed Changes in FERC Gas Tariff

July 26, 2001.

Take notice that on July 20, 2001 Stingray Pipeline Company, L.L.C. (Stingray) tendered for filing as part of its FERC Gas Tariff, Original Volume No. 1, the following tariff sheet, to become effective on August 1, 2001:

Original Sheet No. 312

Stingray states that the purpose of this filing is to provide existing and new shippers an opportunity to expeditiously gain access to Stingray's Interactive Internet Website (AltraWeb) for daily transactional activities once the transition to the new operator occurs on August 1, 2001. The tariff sheet being filed herein is the Interactive Internet Website User Access Authorization Form, which can be downloaded from Stingray's Internet Web Site and executed by Shippers to receive access authorization to Stingray's AltraWeb. Execution of this form will supplant the need to execute a full System License Agreement. Stingray is requesting waiver of the 30-day notice period requirement pursuant to Section 154.207 of the Commission's regulations so that this option will be available to Shippers on the date of the change of operator.

Stingray states that a copy of this filing has been served upon its customers.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-19140 Filed 7-31-01; 8:45 am]

BILLING CODE 6717-01-P